INTERNATIONAL TRADE COMMISSION

[Investigation Nos. 731-TA-1607-1611 (Preliminary)]

Boltless Steel Shelving Units Prepackaged for Sale From India, Malaysia, Taiwan, Thailand, and Vietnam

Determinations

On the basis of the record ¹ developed in the subject investigations, the United States International Trade Commission (“Commission”) determines, pursuant to the Tariff Act of 1930 (“the Act”), that there is a reasonable indication that an industry in the United States is materially injured by reason of imports of boltless steel shelving units prepackaged for sale (“boltless steel shelving”) from Malaysia, Taiwan, Thailand, and Vietnam, and that there is a reasonable indication that an industry in the United States is threatened with material injury by reason of imports of boltless steel shelving from India, provided for in subheading 9403.20.00 of the Harmonized Tariff Schedule of the United States, that are alleged to be sold in the United States at less than fair value (“LTFV”).²

¹ The record is defined in § 207.2(f) of the Commission's Rules of Practice and Procedure (19 CFR 207.2(f)).

² 88 FR 32188 (May 19, 2023).

Commencement of Final Phase Investigations

Pursuant to section 207.18 of the Commission's rules, the Commission also gives notice of the commencement of the final phase of its investigations. The Commission will issue a final phase notice of scheduling, which will be published in the Federal Register as provided in section 207.21 of the Commission's rules, upon notice from the U.S. Department of Commerce (“Commerce”) of affirmative preliminary determinations in the investigations under § 733(b) of the Act, or, if the preliminary determinations are negative, upon notice of affirmative final determinations in those investigations under § 735(a) of the Act. Parties that filed entries of appearance in the preliminary phase of the investigations need not enter a separate appearance for the final phase of the investigations. Industrial users, and, if the merchandise under investigation is sold at the retail level, representative consumer organizations have the right to appear as parties in Commission antidumping investigations. The Secretary will prepare a public service list containing the names and addresses of all persons, or their representatives, who are parties to the investigations.

Background

On April 25, 2023, Edsal Manufacturing Co., Inc., Chicago, Illinois, filed petitions with the Commission and Commerce, alleging that an industry in the United States is materially injured or threatened with material injury by reason of LTFV imports of boltless steel shelving from India, Malaysia, Taiwan, Thailand, and Vietnam. Accordingly, effective April 25, 2023, the Commission instituted antidumping duty investigation nos. 731-TA-1607-1611 (Preliminary).

Notice of the institution of the Commission's investigations and of a public conference to be held in connection therewith was given by posting copies of the notice in the Office of the Secretary, U.S. International Trade Commission, Washington, DC, and by publishing the notice in the Federal Register of May 2, 2023 (88 FR 27529). The Commission gave notice that it would hold its staff conference via video conference in a notice published in the Federal Register of May 3, 2023 (88 FR 27923). The Commission conducted its conference on May 16, 2023. All persons who requested the opportunity were permitted to participate.

The Commission made these determinations pursuant to § 733(a) of the Act (19 U.S.C. 1673b(a)). It completed and filed its determinations in these investigations on June 9, 2023. The views of the Commission are contained in USITC Publication 5434 (June 2023), entitled Boltless Steel Shelving Units Prepackaged for Sale from India, Malaysia, Taiwan, Thailand, and Vietnam: Investigation Nos. 1607-1611 (Preliminary).

By order of the Commission.
Issued: June 9, 2023.
Lisa Barton,
Secretary to the Commission.

[FR Doc. 2023-12740 Filed 6-13-23; 8:45 am]

BILLING CODE 7202-02-P